DEPARTMENT OF JUSTICE

Bureau of Justice Assistance

[OJP (BJA)-1322]

Announcement of the Availability of the State Criminal Alien Assistance Program for FY 2001

AGENCY: Office of Justice Programs, Bureau of Justice Assistance, Justice.

ACTION: Notice of solicitation.

SUMMARY: Announcement of the availability of the Bureau of Justice Assistance (BJA) State Criminal Alien Assistance Program (SCAAP) funding for FY2001.

DATES: Applicant account registration through a new Internet-based system begins on June 5, 2001 and continues until July 2, 2001. Submission of applications begins on June 5, 2001 and ends on July 16, 2001.

ADDRESSES: Bureau of Justice Assistance, 810 Seventh Street, NW., Washington, DC 20531.

FOR FURTHER INFORMATION CONTACT: For SCAAP program guidance and technical assistance, please log on to the Bureau of Justice Assistance Home Page at: http://www.ojp.usdoj.gov/BJA and select “SCAAP” or call the Office of Justice Programs Grants Management System Hotline at 1-888-549-9901, Option #4. For general information about on-line application procedures for other solicitations, please call the U.S. Department of Justice Response Center at 1-800-421-6770.

SUPPLEMENTARY INFORMATION:

Authority

This action is authorized under the Omnibus Crime Control and Safe Streets Act of 1968, Sections 201-03, as amended, 42 U.S.C. §§ 3721-23 (1994).

Background

SCAAP provides Federal assistance to state and local governments for costs incurred for the imprisonment of undocumented criminal aliens, who are charged or convicted of one felony or two misdemeanor offenses. Potential applicants may no longer submit hard copy application forms and diskettes. For FY2001, state and local governments apply for payment via a paperless, electronic, end-to-end distributive, Internet-based web-site application. BJA anticipates providing over 420 payments of varying amounts from a FY2001 funding total of $551,000,000.

Potential applicants with questions should call the Office of Justice Programs Grants Management System Hotline at 1-888-549-9901, Option #4. For access to program guidance and the on-line application, connect to http://www.ojp.usdoj.gov/BJA and select “SCAAP.”

Richard Ward,
Acting Director, Bureau of Justice Assistance.

[FR Doc. 01-14684 Filed 6-11-01; 8:45 am]

BILLING CODE 4410-18-P